DEPARTMENT OF COMMERCE

National Institute of Standards and Technology

Announcement of the American Petroleum Institute's Standards Activities

AGENCY: National Institute of Standards and Technology, Commerce.

ACTION: Notice of intent to develop or revise standards and request for public comment and participation in standards development.

SUMMARY: The American Petroleum Institute (API), with the assistance of other interested parties, continues to develop standards, both national and international, in several areas. This notice lists the standardization efforts currently being conducted by API committees. The publication of this notice by the National Institute of Standards and Technology (NIST) on behalf of API is being undertaken as a public service. NIST does not necessarily endorse, approve, or recommend the standards referenced.

ADDRESSES: American Petroleum Institute, 1220 L Street, NW., Washington, DC 20005; telephone (202) 682-8000, http://www.api.org.

FOR FURTHER INFORMATION CONTACT: All contact individuals listed in the supplementary information section of this notice may be reached at the American Petroleum Institute.

SUPPLEMENTARY INFORMATION:

Background

The American Petroleum Institute develops and publishes voluntary standards for equipment, materials, operations, and processes for the petroleum and natural gas industry. These standards are used by both private industry and by governmental agencies. All interested persons should contact the appropriate source as listed for further information.

Pipeline Committee

New Std 1162 Developing a Public Awareness Program for Operators

New Std 1109 Marking Liquid Petroleum Pipeline Facilities

For Further Information Contact: Andrea Johnson, Standards Department, email: johnsona@api.org.

Committee on Marketing

Std 2610 Design, Construction, Operation, Maintenance, and Inspection of Terminal and Tank Facilities

RP 1501 Recommended Practice for Retail or Consumer Aviation Fueling Facilities

Std 1529 Aviation Fueling Hose

RP 1626 Recommended Practice for Storing and Handling Ethanol and Gasoline-ethanol Blends at Distribution Terminals and Service Stations.

For Further Information Contact: David Soffrin, Standards Department, email: soffrind@api.org.

Committee on Refining

Corrosion & Materials:

RP 651 Cathodic Protection of Aboveground Petroleum Storage Tanks

RP 652 Lining of Aboveground Petroleum Storage Tanks

RP 936 Refractory Installation Quality Control Guidelines

New Coke Drum Survey Report

Inspection:

Std 510 Pressure Vessel Inspection Code

Std 570 Piping Inspection Code

Pressure Vessel and Tanks:

Std 620 Design & Construction of Large, Welded, Low-Pressure Storage Tanks

Std 650 Welded Tanks for Oil Storage

Std 653 Tank Inspection, Repair, Alteration, and Reconstruction

Electrical Equipment:

RP 545 Lightening Protection for Aboveground Petroleum Storage Tanks

Mechanical Equipment:

Std 618 Reciprocating Compressors for Petroleum, Chemical, and Gas Industry Services

Piping:

Std 598 Valve Inspection and Testing

Std 591 User Acceptance of Refinery Valves

Std 609 Butterfly Valves: Double Flanged, Lug- and Wafer-Type

Instrument & Control Systems:

RP 552 Transmission Systems

Technical Data Book—Petroleum Refining:

Electronic Version of the Technical Data Book—Petroleum Refining, Release 3.0

For Further Information Contact: David Soffrin, Standards Department, email: soffrind@api.org.

Meetings/Conferences: The Spring Refining Meeting will be held at the Sheraton Seattle Hotel & Towers, Seattle, Washington, April 14-16, 2003. The Fall Refining Meeting will be held at the Adams Mark Hotel, Denver, Colorado, September, 15-17, 2003. Interested parties may visit the API Web site at http://www.api.org/events for more information regarding participation in these meetings.

Committee on Safety and Fire Protection

RP 752 Management of Process Hazards Associated with Location Process Plant Buildings

RP 2003 Protection Against Ignitions arising out of Static, Lightening and Stray Currents

RP 2350 Overfill Protection

Std 2510 Design, Construction & Operation of LPG Storage Facilities

RP 2220 Improving Owner and Contractor Safety Performance

For Further Information Contact: David Soffrin, Standards Department, email: soffrind@api.org.

Committee on Petroleum Measurement

Manual of Petroleum Measurement Standards:

Chapter 4.1 Introduction to Proving Systems

Chapter 4.3 Small Volume Provers

Chapter 4.7 Field-Standard Test Measures

New Chapter 4.9.1 Introduction to Determination of the Volume of Displacement and Tank Provers

New Chapter 4.9.2 Determination of the Volume of Displacement and Tank Provers by the Waterdraw Method of Calibration

New Chapter 4.9.3 Determination of the Volume of Displacement and Tank Provers by the Master Meter Method of Calibration

New Chapter 4.9.4 Determination of the Volume of Displacement and Tank Provers by the Gravimetric Method

Chapter 6.2 Loading Rack and Tank Truck Metering System for Non-LPG Products

Chapter 9.2 Pressure Hydrometer Test Method for Density or Relative Density

Chapter 10.3 Determination of Water and Sediment in Crude Oil by the Centrifuge Method, Laboratory Procedure

New 12.1.3 Calculation Procedures for Liquefied Petroleum Gases (New document)

New Chapter 17.9 Vessel Experience Factors

Chapter 19.2 Evaporative Loss from Floating Roof Tanks

Chapter 19.4 Speciation of Evaporative Losses

For Further Information Contact: Jon Noxon, Standards Department, email: noxonj@api.org.

API/ASTM/GPA standards

Chapter 9.2/ASTM D1567 Standard Test Method or Relative Density of Light Hydrocarbons by Pressure Hydrometer

Chapter 10.3/ASTM D4007 Standard Test Method for Water and Sediment in Crude Oil by the Centrifuge Method

Chapter 10.6/ASTM D1796 Standard Test Method for Water and Sediment in Fuel Oils by the Centrifuge Method A

Chapter 11.2/GPA TP 15 A Simplified Vapor Pressure Correlation for Commercial NGLs

For Further Information Contact: Paula Watkins, Standards Department, email: watkinsp@api.org.

Meetings/Conferences: The Spring Committee on Petroleum Measurement Meeting will take place at the Hyatt Regency Hotel, Dallas, Texas, March 17-21, 2003. The Fall Committee on Petroleum Measurement Meeting will take place at the Wyndham Palace Hotel, Lake Buena Vista, Florida, September 29-October 3, 2003. Interested parties may visit the API Web site at http://www.api.org/events for more information regarding participation in these meetings.

Committee on Exploration and Production

Production Equipment:

Spec 6A Specification for Valves and Wellhead Equipment

Spec 12B Specification for Bolted Tanks

Spec 12D Specification for Field Welded Tanks

Spec 12F Specification for Shop Welded Tanks

RP 14H Installation, Maintenance, and Repair of Surface Safety Valves and Underwater Safety Valves Offshore

Oil Country Tubular Goods:

Bul 5T1 Imperfection Terminology

RP 5C5 Evaluation Procedures for Casing and Tubing Connections

RP 5A3 Thread Compounds for Casing, Tubing and Line Pipe

Spec 5L Specification for Line Pipe

RP 5B1 Threading, Gauging and Thread Inspection of Casing, Tubing and Line Pipe Threads

Offshore Structures, Drill Through Equipment, and Subsea Production Equipment:

Spec 2C Specification for Cranes

RP 2X Recommended Practice for Ultrasonic and Magnetic Examination of Offshore Structures

Spec 16A Specification for Drill Through Equipment

Spec 16D Specification for Control Systems for Drilling Well Control Systems

Spec 17E Specification for Subsea Production Control Umbilicas

New RP 17H Recommended Practice for ROVs

New 17TR2 Technical Report on aging of PA-11 in Flexible Pipes

Drilling Operations and Equipment:

Spec 4F Specification for Drilling and Well Servicing Structures

RP 7G Recommended Practice for Drill Stem Elements and Operating Limits

Spec 8C Specification for Drilling and Production Hoisting Equipment

Spec 9A Specification for Wire Rope

RP 10B Recommended Practice for Testing Well Cements

10 TR1 Technical Report on Cement Sheath Evaluation

Spec 13A Specification for Drilling Fluid Materials

RP 13C Recommended Practice for Drilling Fluid Processing Systems Evaluation

RP 13D Recommended Practice for Rheology and Hydraulics of Oil-well Drilling Fluids

RP 13E Recommended Practice for Shale Shaker Screen Cloth Designation

RP 13I Recommended Practice for Laboratory Testing Drilling Fluids

RP 13J Recommended Practice for Testing Heavy Brines Quality Systems

Spec Q1 Quality Programs for the Petroleum and Natural Gas Industry

For Further Information Contact: Mike Spanhel, Standards Department, email: spanhel@api.org.

Meetings/Conferences: The 2003 Summer Standardization Conference on Oilfield Equipment & Materials will take place at the Marriott Rivercenter Hotel, San Antonio, Texas, June 16-20, 2003. Interested parties may visit the API Web site at http://www.api.org/events for more information regarding participation in this meeting.

For additional information on the overall API standards program, contact: David Miller, Standards Department, email: miller@api.org.

Dated: April 2, 2003.
Karen H. Brown,
Deputy Director.

[FR Doc. 03-8530 Filed 4-7-03; 8:45 am]

BILLING CODE 3510-13-P